DEPARTMENT OF COMMERCE

Bureau of Industry and Security

15 CFR Part 744

[Docket No. 120314191-2216-01]

RIN 0694-AF61

Addition of Certain Persons to the Entity List

AGENCY: Bureau of Industry and Security, Commerce.

ACTION: Final rule.

SUMMARY: This rule amends the Export Administration Regulations (EAR) by adding sixteen persons under eighteen entries to the Entity List. The persons who are added to the Entity List have been determined by the U.S. Government to be acting contrary to the national security or foreign policy interests of the United States. These persons will be listed on the Entity List under the countries of Afghanistan, Pakistan and the United Arab Emirates (U.A.E.).

The Entity List provides notice to the public that certain exports, reexports, and transfers (in-country) to entities identified on the Entity List require a license from the Bureau of Industry and Security (BIS) and that availability of license exceptions in such transactions is limited.

DATES: Effective Date: This rule is effective April 27, 2012.

FOR FURTHER INFORMATION CONTACT: Karen Nies-Vogel, Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to Part 744) provides notice to the public that certain exports, reexports, and transfers (in-country) to entities identified on the Entity List require a license from BIS and that the availability of license exceptions in such transactions is limited. Entities are placed on the Entity List on the basis of certain sections of part 744 (Control Policy: End-User and End-Use Based) of the EAR.

The End-user Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

This rule implements the decision of the ERC to add sixteen persons under eighteen entries to the Entity List on the basis of Section 744.11 (license requirements that apply to entities acting contrary to the national security or foreign policy interests of the United States) of the EAR. The eighteen entries added to the Entity List consist of twelve entries in Afghanistan, three in Pakistan, and three in the U.A.E. Two of the eighteen entries cover multiple addresses, in different countries for two of the persons being added to the Entity List.

The ERC reviewed Section 744.11(b) (Criteria for revising the Entity List) in making the determination to add these persons to the Entity List. Under that paragraph, persons for which there is reasonable cause to believe, based on specific and articulable facts, that the persons have been involved, are involved, or pose a significant risk of being or becoming involved in, activities that are contrary to the national security or foreign policy interests of the United States and those acting on behalf of such persons may be added to the Entity List pursuant to Section 744.11. Paragraphs (b)(1)-(b)(5) of Section 744.11 include an illustrative list of activities that could be contrary to the national security or foreign policy interests of the United States. All sixteen persons are believed to have been involved in activities described under paragraphs (b)(1) and (b)(2) of Section 744.11. Specifically, the sixteen persons are being added to the Entity List on the basis of their provision of support to persons engaged against U.S. and Coalition forces in Afghanistan. All sixteen of the persons are involved in supply networks that provide components used to make improvised explosive devices (IEDs) used against U.S. and coalition troops in Afghanistan.

For the sixteen persons added to the Entity List under eighteen entries, the ERC specified a license requirement for all items subject to the EAR, and established a license application review policy of a presumption of denial. The license requirement applies to any transaction in which items are to be exported, reexported, or transferred (in-country) to such persons or in which such persons act as purchaser, intermediate consignee, ultimate consignee, or end-user. In addition, no license exceptions are available for exports, reexports, or transfers (in-country) to those persons being added to the Entity List.

This final rule adds the following sixteen persons under eighteen entries to the Entity List:

Afghanistan

(1) Afghan-German Construction Company, Golaye Park, Shari Naw, Kabul, Afghanistan; and Dasht Qala, Takhar Province, Afghanistan;

(2) Haji Khalil Construction Company, Wazir Akbar Khan, Road Number 10, In front of National Bank, District 10, Kabul, Afghanistan;

(3) Khalil Zadran, a.k.a., the following eight aliases:

—Samar Gul Khalil;

—Khalil Samar Gul;

—Samer Khalil;

—Samer Gul Khalil;

—Khlil Khalil;

—Kalil Khalil;

—Khalil Khualil; and

—Haji Khalil.

Shahreno, Kabul, Afghanistan (See alternate address in Pakistan);

(4) Heim German Afghan Khalil Company, Wazir Akbar Khan, District 10, Kabul, Afghanistan; and Shahr-e-Now, Kabul, Afghanistan; and Paktiyakoot, Jalalabad Road, District #9, Kabul, Afghanistan;

(5) Ibrahim Haqqani, a.k.a., the following two aliases:

—Hajji Sahib; and

—Maulawi Haji Ibrahim Haqqani.

Afghanistan;

(6) Khalil Zadran Company, a.k.a., the following alias:

—Khalil Construction.

Afghanistan (See alternate address in Pakistan);

(7) Onyx Construction Company, Shahr-e-Now, Charahi Haji Yaqoub, In front of the AIB Bank, District 10, Kabul, Afghanistan; and Char Rahi Ansari, Toaward Kolola Poshta, Shar-Naw Kabul, Afghanistan 11496;

(8) Triangle Technologies, Afghanistan;

(9) Zurmat Construction Company offices, House No. 319, 10th Street Wazeer Akbar Khan, Kabul, Afghanistan; and Wazir Akbar Khan, District 10, Apartment 319, Kabul, Afghanistan; and Tarin Cot City, Afghanistan; and Behind UNAMA Office, Pir Bagh Office, Gardez, Afghanistan; and House No. 01, Street No. 01, Muhaqeq Road (Behind Pakistan and Turkish Embassies), Mazar-e-Sharif, Afghanistan; and Hazratan Street (Behind Jalalalabad Teaching Hospital), Jalalalabad, Afghanistan; and Aino Mena, Street No. 22 (Blue Color House Left Side of Road), Kandahar, Afghanistan;

(10) Zurmat Foundation, House No. 319, 10th Street Wazeer Akbar Khan, Kabul, Afghanistan; and Wazir Muhammad—Akbar Khan, Kabul, Afghanistan; and Wazir Akbar Khan, District 10, Apartment 319, Kabul, Afghanistan;

(11) Zurmat Group of Companies, House No. 319, 10th Street Wazeer Akbar Khan, Kabul, Afghanistan; and

(12) Zurmat Material Testing Laboratory, House 01, Street 01, Kart-e-3 (opposite of Habibia High School), Dar-ul-Aman Road, Kabul, Afghanistan; and House No. 02, Street No. 01, Kart-e-Malemin, Khandahar, Afghanistan.

Pakistan

(1) Khalil Zadran, a.k.a., the following eight aliases:

—Samar Gul Khalil;

—Khalil Samar Gul;

—Samer Khalil;

—Samer Gul Khalil;

—Khlil Khalil;

—Kalil Khalil;

—Khalil Khualil; and

—Haji Khalil.

House 14, Street 13, Sector F-7/2, Islamabad, Pakistan; and House 20-B, Main College Road, Sector F-7/2, Islamabad, Pakistan (See alternate address in Afghanistan);

(2) Jalaluddin Haqqani, a.k.a., the following seven aliases:

—General Jalaluddin;

—Haqqani Sahib;

—Maulama Jalaluddin;

—Maulawi Haqqani;

—Molvi Sahib;

—Mulawi Jalaluddin; and

—Mullah Jalaluddin.

Miram Shah, Pakistan; and

(3) Khalil Zadran Company, a.k.a., the following alias:

—Khalil Construction.

Pakistan (See alternate address in Afghanistan).

United Arab Emirates

(1) Al Maskah Used Car and Spare Parts, Maliha Road, Industrial Area 6, Sharajah, U.A.E.;

(2) Feroz Khan, a.k.a., the following three aliases:

—Haaje Khan;

—Haaji Khan, and

—Firoz.

Maliha Road, Industrial Area 6, Sharajah, U.A.E.; and

(3) Zurmat General Trading, Office No. 205, Platinum Business Center, Baghdad Street, Al-Nahda 2, Al-Qusais, Dubai, U.A.E.; and P.O. Box No. 171452, Dubai, U.A.E.; and 1st Street, Industrial Area 4th, Sharajah, U.A.E. (Behind the Toyota Showroom); and P.O. Box 35470, Sharajah, U.A.E.

Savings Clause

Shipments of items removed from eligibility for a License Exception or export or reexport without a license (NLR) as a result of this regulatory action that were en route aboard a carrier to a port of export or reexport, on April 27, 2012, pursuant to actual orders for export or reexport to a foreign destination, may proceed to that destination under the previous eligibility for a License Exception or export or reexport without a license (NLR).

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the persons being added to the Entity List. If this rule were delayed to allow for notice and comment and a delay in effective date, then entities being added to the Entity List by this action would continue to be able to receive items without a license and to conduct activities contrary to the national security or foreign policy interests of the United States. In addition, because these parties may receive notice of the U.S. Government's intention to place these entities on the Entity List once a final rule was published, it would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 12, 2011, 76 FR 50661 (August 16, 2011); Notice of September 21, 2011, 76 FR 59001 (September, 22, 2011); Notice of November 9, 2011, 76 FR 70319 (November 10, 2011); Notice of January 19, 2012, 77 FR 3067 (January 20, 2012).

2. Supplement No. 4 to part 744 is amended:

(a) By adding under Afghanistan, in alphabetical order, twelve Afghan entities;

(b) By adding under Pakistan, in alphabetical order, three Pakistani entities; and

(c) By adding under the United Arab Emirates, in alphabetical order, three Emirati entities.

The additions read as follows:

Supplement No. 4 to Part 744—Entity List

Country | Entity | License requirement | License review policy | Federal Register citation
Afghanistan | * * * * *
| Afghan-German Construction Company, Golaye Park, Shari Naw, Kabul, Afghanistan, and Dasht Qala, Takhar Province, Afghanistan. | For all items subject to the EAR. (See § 744.11 of the EAR). | Presumption of denial | 77 FR [INSERT FR PAGE NUMBER] 4/27/12.
| * * * * *
| Haji Khalil Construction Company, Wazir Akbar Khan, Road Number 10, In front of National Bank, District 10, Kabul, Afghanistan. | For all items subject to the EAR. (See § 744.11 of the EAR). | Presumption of denial | 77 FR [INSERT FR PAGE NUMBER] 4/27/12.
| * * * * *
| Heim German Afghan Khalil Company, Wazir Akbar Khan, District 10, Kabul, Afghanistan; and Shahr-e-Now, Kabul, Afghanistan, and Paktiyakoot, Jalalabad Road, District #9, Kabul, Afghanistan. | For all items subject to the EAR. (See § 744.11 of the EAR). | Presumption of denial | 77 FR [INSERT FR PAGE NUMBER] 4/27/12.
| Ibrahim Haqqani, a.k.a., the following two aliases: —Hajji Sahib; and —Maulawi Haji Ibrahim Haqqani. | For all items subject to the EAR. (See § 744.11 of the EAR). | Presumption of denial | 77 FR [INSERT FR PAGE NUMBER] 4/27/12.
| Afghanistan.
| * * * * *
| Khalil Zadran, a.k.a., the following eight aliases: —Samar Gul Khalil; —Khalil Samar Gul; —Samer Khalil; —Samer Gul Khalil; —Khlil Khalil; —Kalil Khalil; —Khalil Khualil; and —Haji Khalil. | For all items subject to the EAR. (See § 744.11 of the EAR). | Presumption of denial | 77 FR [INSERT FR PAGE NUMBER] 4/27/12.
| Shahreno, Kabul, Afghanistan. (See alternate address in Pakistan).
| Khalil Zadran Company, a.k.a., the following alias: —Khalil Construction. Afghanistan (See alternate address in Pakistan). | For all items subject to the EAR. (See § 744.11 of the EAR). | Presumption of denial | 77 FR [INSERT FR PAGE NUMBER] 4/27/12.
| * * * * *
| Onyx Construction Company, Shahr-e-Now, Charahi Haji Yaqoub, In front of the AIB Bank, District 10, Kabul, Afghanistan; and Char Rahi Ansari, Toaward Kolola Poshta, Shar-Naw Kabul, Afghanistan 11496. | For all items subject to the EAR. (See § 744.11 of the EAR). | Presumption of denial | 77 FR [INSERT FR PAGE NUMBER] 4/27/12.
| * * * * *
| Triangle Technologies, Afghanistan. | For all items subject to the EAR. (See § 744.11 of the EAR). | Presumption of denial | 77 FR [INSERT FR PAGE NUMBER] 4/27/12.
| Zurmat Construction Company offices, House No. 319, 10th Street Wazeer Akbar Khan, Kabul, Afghanistan; and Wazir Akbar Khan, District 10, Apartment 319, Kabul, Afghanistan; and Tarin Cot City, Afghanistan; and Behind UNAMA Office, Pir Bagh Office, Gardez, Afghanistan; and House No. 01, Street No. 01, Muhaqeq Road (Behind Pakistan and Turkish Embassies), Mazar-e-Sharif, Afghanistan; and Hazratan Street (Behind Jalalalabad Teaching Hospital), Jalalalabad, Afghanistan, and Aino Mena, Street No. 22 (Blue Color House Left Side of Road), Kandahar, Afghanistan. | For all items subject to the EAR. (See § 744.11 of the EAR). | Presumption of denial | 77 FR [INSERT FR PAGE NUMBER] 4/27/12.
| Zurmat Foundation, House No. 319, 10th Street Wazeer Akbar Khan, Kabul, Afghanistan; and Wazir Muhammad—Akbar Khan, Kabul, Afghanistan; and Wazir Akbar Khan, District 10, Apartment 319, Kabul, Afghanistan. | For all items subject to the EAR. (See § 744.11 of the EAR). | Presumption of denial | 77 FR [INSERT FR PAGE NUMBER] 4/27/12.
| Zurmat Group of Companies, House No. 319, 10th Street Wazeer Akbar Khan, Kabul, Afghanistan. | For all items subject to the EAR. (See § 744.11 of the EAR). | Presumption of denial | 77 FR [INSERT FR PAGE NUMBER] 4/27/12.
| Zurmat Material Testing Laboratory, House 01, Street 01, Kart-e-3 (opposite of Habibia High School), Dar-ul-Aman Road, Kabul, Afghanistan; and House No. 02, Street No. 01, Kart-e-Malemin, Khandahar, Afghanistan. | For all items subject to the EAR. (See § 744.11 of the EAR). | Presumption of denial | 77 FR [INSERT FR PAGE NUMBER] 4/27/12.
| * * * * * * *
Pakistan | * * * * *
| Jalaluddin Haqqani, a.k.a., the following seven aliases: —General Jalaluddin; —Haqqani Sahib; —Maulama Jalaluddin; —Maulawi Haqqani; —Molvi Sahib; —Mulawi Jalaluddin; and —Mullah Jalaluddin. —Miram Shah, Pakistan. | For all items subject to the EAR. (See § 744.11 of the EAR). | Presumption of denial | 77 FR [INSERT FR PAGE NUMBER] 4/27/12.
| Khalil Zadran, a.k.a., the following eight aliases: —Samar Gul Khalil; —Khalil Samar Gul; —Samer Khalil; —Samer Gul Khalil; —Khlil Khalil; —Kalil Khalil; —Khalil Khualil; and —Haji Khalil. | For all items subject to the EAR. (See § 744.11 of the EAR). | Presumption of denial | 77 FR [INSERT FR PAGE NUMBER] 4/27/12.
| House 14, Street 13, Sector F-7/2, Islamabad, Pakistan; and House 20-B, Main College Road, Sector F-7/2, Islamabad, Pakistan (See alternate address in Afghanistan).
| Khalil Zadran Company, a.k.a., the following alias: —Khalil Construction. Pakistan (See alternate address in Afghanistan). | For all items subject to the EAR. (See § 744.11 of the EAR). | Presumption of denial | 77 FR [INSERT FR PAGE NUMBER] 4/27/12.
| * * * * *
| * * * * * * *
United Arab Emirates | * * * * *
| Al Maskah Used Car and Spare Parts, Maliha Road, Industrial Area 6, Sharajah, U.A.E. | For all items subject to the EAR. (See § 744.11 of the EAR). | Presumption of denial | 77 FR [INSERT FR PAGE NUMBER] 4/27/12.
| Feroz Khan, a.k.a., the following three aliases: —Haaje Khan; —Haaji Khan; and —Firoz. | For all items subject to the EAR. (See § 744.11 of the EAR). | Presumption of denial | 77 FR [INSERT FR PAGE NUMBER] 4/27/12.
| Maliha Road, Industrial Area 6, Sharajah, U.A.E.
| * * * * *
| Zurmat General Trading, Office No. 205, Platinum Business Center, Baghdad Street, Al-Nahda 2, Al-Qusais, Dubai, U.A.E.; and P.O. Box No. 171452, Dubai, U.A.E.; and 1st Street, Industrial Area 4th, Sharajah, U.A.E. (Behind the Toyota Showroom), and P.O. Box 35470, Sharajah, U.A.E. | For all items subject to the EAR. (See § 744.11 of the EAR). | Presumption of denial | 77 FR [INSERT FR PAGE NUMBER] 4/27/12.
| * * * * * * *

Dated: April 23, 2012.
Kevin J. Wolf,
Assistant Secretary for Export Administration.

[FR Doc. 2012-10104 Filed 4-26-12; 8:45 am]

BILLING CODE 3510-33-P